DEPARTMENT OF HEALTH AND HUMAN SERVICES

National Institutes of Health

National Cancer Institute; Amended Notice of Meeting

Notice is hereby given of a change in the meeting of the NCI-Frederick Advisory Committee, February 04, 2014, 09:00 a.m. to February 04, 2014, 12:00 p.m., National Institutes of Health, Natcher Building, 45 Center Drive, Bethesda, MD, 20892 which was published in the Federal Register on December 27, 2013, 78 FR 78982.

The meeting notice is amended to change the date of the meeting from February 4, 2014 to February 4-5, 2014. This meeting will be held at The National Institutes of Health, Natcher Building, Room E1/E2, 45 Center Drive, Bethesda, MD 20892. The meeting is open to the public.

Dated: January 9, 2014.
Melanie J. Gray,
Program Analyst, Office of Federal Advisory Committee Policy.

[FR Doc. 2014-00548 Filed 1-14-14; 8:45 am]

BILLING CODE 4140-01-P